SECURITIES AND EXCHANGE COMMISSION

[Release No. 34-48460; File Nos. SR-NASD-2002-162; SR-NYSE-2002-36]

Self-Regulatory Organizations; Notice of Extension of Comment Period for the Amendments to Proposed Rule Changes by the National Association of Securities Dealers, Inc. and New York Stock Exchange, Inc. Relating to Supervisory Control Amendments

September 8, 2003.

On August 16, 2002, the New York Stock Exchange (“NYSE” or “Exchange”), and on November 4, 2002, the National Association of Securities Dealers, Inc. (“NASD”), filed with the Securities and Exchange Commission (“SEC” or “Commission”) proposed rule changes pursuant to section 19(b)(1) of the Securities Exchange Act of 1934 (“Act”)¹ and Rule 19b-4 thereunder,² regarding the supervisory and supervisory control procedures of member firms. A complete description of the proposed rule changes is found in the notices of filing, which were published in the Federal Register on November 27, 2002.³ On April 28, 2003, the NYSE submitted Amendment No. 2 to the proposed rule change, and on August 7, 2003, the NYSE filed Amendment No. 3 to the proposed rule change. On August 5, 2003, the NASD filed Amendment No. 1 to the proposed rule change, and on August 7, 2003, the NASD filed Amendment No. 2 to the proposed rule change. A complete description of these amendments is found in the notices thereof, which were published in the Federal Register on August 13, 2003.⁴

¹ 15 U.S.C. 78s(b)(1).

² 17 CFR 240.19b-4.

³ See Securities Exchange Act Release Nos. 46858 (November 20, 2002), 67 FR 70994 (SR-NYSE-2002-36) and 46859 (November 20, 2002), 67 FR 70990 (SR-NASD-2002-162); see also Securities Exchange Act Release No. 46858A (November 27, 2002, 67 FR 72261 (SR-NYSE-2002-36 Correction).

⁴ See Securities Exchange Act Release Nos. 48298 (August 7, 2003), 68 FR 48421 (SR-NASD-2002-162) and 48299 (August 7, 2003), 68 FR 48431 (SR-NYSE-2002-36).

To give the public additional time to comment on the amendments to the proposed rule changes, the Commission has decided to extend the comment periods pursuant to section 19(b)(2) of the Act.⁵ Accordingly the comment periods shall be extended until October 3, 2003.

⁵ 15 U.S.C. 78s(b)(2).

Interested persons are invited to submit written data, views, and arguments concerning the foregoing, including whether the amendments are consistent with the Act. Persons making written submissions should file six copies thereof with the Secretary, Securities and Exchange Commission, 450 Fifth Street, NW., Washington, DC 20549-0609. Copies of the submission, all subsequent amendments, all written statements with respect to the proposed rule changes that are filed with the Commission, and all written communications relating to the proposed rule changes between the Commission and any person other than those that may be withheld from the public in accordance with the provisions of 5 U.S.C. 552, will be available for inspection and copying in the Commission's Public Reference Room. Copies of such filings will also be available for inspection and copying at the principal office of the NASD or NYSE. All submissions should refer to File No. SR-NASD-2002-162 or SR-NYSE-2002-36 and should be submitted by October 3, 2003.

For the Commission, by the Division of Market Regulation, pursuant to delegated authority.⁶

⁶ 17 CFR 200.30-3(a)(12).

Margaret H. McFarland,
Deputy Secretary.

[FR Doc. 03-23418 Filed 9-12-03; 8:45 am]

BILLING CODE 8010-01-P